DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 3, 2015.

ADDRESSES: Record Center, Pipeline and Hqzardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov. This notice of receipt of applications for special permit is published in accordance with Part 107 of the Federal hazardous materials transportation law (49 U.S.C. 5117(b); 49 CFR I.53(b)).

Issued in Washington, DC, on June 23, 2015.
Ryan Paquet,
Director, Approvals and Permits Division.

New Special Permits
Application No. | Docket No. | Applicant | Regulation(s) affeceted | Nature of special thereof
16474-N |  | Retriev Technologies Inc. Anaheim, CA | 49 CFR Subparts C, D, and E of part 172, 172.102(c)(1) Special Provision 130(d), 173.185(c), 173.185(d) | To authorize the manufacture, mark sale and use of specifically designed packagings for the transportation in commerce of certain batteries without shipping papers, and certain marking and labeling when transported for recycling or disposal (modes 1, 2, 3)
16475-N |  | Volga-Dnepr Airlines, LLC Ulyanovsk, Russian Federation | 49 CFR 172.101 Hazardous Materials Table Column (9B), 173.27, 175.30(a)(1), Columns 12 and 13 of Table 3-1 of the ICAO TI | To authorize the transportation in commerce of certain hazardous materials forbidden aboard cargo aircraft only (mode 4)
16477-N |  | Hydroid, Inc. Pocassset, MA | 49 CFR 173.185(e) | To authorize the transportation in commerce of prototype and low production lithium ion batteries contained in equipment. (modes 1, 2, 3)
16478-N |  | Sentry Equipment Corp. Oconomowoc, WI | 49 CFR 173.201, 173.301(f), 173.302a, 173.304a | To authorize the manufacture, mark, sale and use of stainless steel non-DOT specification cylinders manufactured in accordance with ASME Section VIII. (modes 1, 2, 3, 4)
16485-N |  | Entegris, Inc. Billerica, MA | 49 CFR 173.302c, 180205(f), 180.205(g), 180.209a | To authorize the transportation in commerce of adsorbed gases in certain DOT specification cylinders. (modes 1, 2, 3, 4, 5)
16492-N |  | Construction Helicopters, Inc. Howell, MI | 49 CFR 172.101 Hazardous Materials Table Column (9B), Subpart C of Part 172, 172.301(c), 172.302(c) 173.27(b)(2), 175.30, Part 178 | To authorize the transportation in commerce of certain hazardous materials by 14 CFR part 133 Rotorcraft External Load Operations transporting hazardous materials attached to or suspended from an aircraft and 14 CFR part 135 operations transporting hazardous materials on board an aircraft. Such transportation is in support of construction operations when the use of cranes or other lifting devices is impracticable or unavailable or when aircraft is the only means of transportation, without being subject to certain hazard communication requirements, packaging and loading and storage requirements. (mode 4)
16495-N |  | TransRail Innovatioin Inc. Calgary, Canada | 40 CFR 179.7 | To authorize the manufacture, installation, and service trials of 50 rail tank cars containing Class 3 hazardous materials each with a sensor device mounted to the rail tank car prior to, or in conjunction with, the completion of the quality assurance program for the tank car facility. (mode 2)

[FR Doc. 2015-15848 Filed 7-1-15; 8:45 am]

BILLING CODE 4909-60-M